DEPARTMENT OF THE INTERIOR

Bureau of Land Management

[UTU 80808]

Public Land Order No. 7649; Withdrawal of Public Land for the Moab Mill Site Remediation Project; Utah; Correction

AGENCY: Bureau of Land Management, Interior.

ACTION: Notice; correction.

SUMMARY: The Bureau of Land Management published a document in the Federal Register on November 15, 2005, withdrawing public land for the Moab Mill Site Remediation Project in Utah. The document contained an erroneous statement in the SUMMARY section.

FOR FURTHER INFORMATION CONTACT: Mary von Koch, 435-259-2128.

Correction

In the Federal Register of November 15, 2005, in FR Doc. 05-22605, on page 69351, column 2, beginning with the word “to” on line 7 of the SUMMARY section, delete the following phrase: “to conduct site characterization studies to determine a suitable location for disposal of uranium mill site tailings”

Kent Hoffman,
Deputy State Director, Division of Land and Minerals.

[FR Doc. E6-6682 Filed 5-2-06; 8:45 am]

BILLING CODE 6450-01-P